DEPARTMENT OF COMMERCE

International Trade Administration

[A-533-809]

Certain Stainless Steel Flanges From India: Bhansali Ferromet Pvt. Ltd.

AGENCY: Import Administration, International Trade Administration, Department of Commerce.

ACTION: Notice of final results of antidumping duty new shipper review.

SUMMARY: This review covers one manufacturer/exporter, Bhansali Ferromet Pvt. Ltd. (Bhansali) and sales of the subject merchandise to the United States during the period August 1, 1998 through July 31, 1999. The final results do not differ from the preliminary results of review, in which we found that the respondent made sales in the United States at prices below normal value.

EFFECTIVE DATE: February 23, 2001.

FOR FURTHER INFORMATION CONTACT: Thomas Killiam or Robert James, AD/CVD Enforcement Group III, Import Administration, International Trade Administration, U.S. Department of Commerce, 14th Street and Constitution Avenue, NW, Washington, D.C. 20230, telephone: (202) 482-5222 or (202) 482-0649, respectively.

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department's”) regulations are to 19 CFR Part 351 (1999).

Background

On September 15, 2000, the Department published in the Federal Register the preliminary results of its new shipper review of certain forged stainless steel flanges from India (65 FR 55942, September 15, 2000). We invited parties to comment on our preliminary results of review. We received no comments.

Bhansali submitted a change in its data on November 4, 2000, but this change had no effect on our analysis. On December 5, 2000, the Department published in the Federal Register an extension of the deadline for the final results of review (65 FR 75924). The Department has now completed the new shipper review in accordance with section 751 of the Act.

Scope of Review

The products under review are certain forged stainless steel flanges (hereafter, “flanges”) from India, both finished and not finished, generally manufactured to specification ASTM A-182, and made in alloys such as 304, 304L, 316, and 316L. The scope includes five general types of flanges. They are weld neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the HTSUS. Although the HTSUS subheading is provided for convenience and customs purposes, the written description of the merchandise under review is dispositive of whether or not the merchandise is covered by the review.

Verification

On December 7, 2000 the Department conducted a verification of the antidumping responses submitted by Bhansali Ferromet Pvt. Ltd. See memorandum to the file from Thomas Killiam, “Sales Verification of Bhansali Ferromet Pvt. LtD.-Stainless Steel Flanges from India,” December 20, 2000. No changes in the data or analysis were indicated as a result of the verification.

Final Results of the Review

No changes to our analysis in the preliminary results are warranted for purposes of these final results. Accordingly, the weighted-average dumping margin for Bhansali for the period August 1, 1998 through July 31, 1999, is as follows:

Manufacturer/exporter | Margin (percent)
Bhansali Ferromet Pvt. LtD | 4.08

Cash Deposit Requirements

The Department shall determine, and the Customs Service shall assess, antidumping duties on all appropriate entries, on a per kilogram basis. The Department will issue appropriate instructions directly to the U.S. Customs Service. Furthermore, the following cash deposit requirements will be effective for all shipments of the subject merchandise entered, or withdrawn from warehouse, for consumption on or after the publication date of these final results of administrative review, as provided by section 751(a) of the Act: (1) For Bhansali, the cash deposit rate will be the rate listed above, (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 162.14 percent, the all others rate established in the less-than-fair-value investigation. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also serves as the only reminder to parties subject to administrative protective order (“APO”) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Act, and 19 CFR 351.214.

Dated: January 31, 2001.
Timothy J. Hauser,
Acting Under Secretary for International Trade.

[FR Doc. 01-4538 Filed 2-22-01; 8:45 am]

BILLING CODE 3510-DS-P